ENVIRONMENTAL PROTECTION AGENCY

[FRL-9812-5; Docket ID No. EPA-HQ-ORD-2013-0357]

Notice of Workshop and Call for Information on Integrated Science Assessment for Oxides of Sulfur

AGENCY: Environmental Protection Agency (EPA).

ACTION: Notice of Workshop; Call for Information.

SUMMARY: The U.S. EPA Office of Research and Development's National Center for Environmental Assessment (NCEA) is preparing an Integrated Science Assessment (ISA) as part of the review of the primary National Ambient Air Quality Standards (NAAQS) for oxides of sulfur (SOX) (for which the indicator is sulfur dioxide [SO2]). This ISA will update the scientific assessment presented in the Integrated Science Assessment for Sulfur Oxides—Health Criteria (EPA 600/R-08/047F), published in September 2008. Interested parties are invited to assist the EPA in developing and refining the scientific information base for the review of the NAAQS for SOX by submitting recent research studies that have been published, accepted for publication, or presented at a public scientific meeting.

The EPA is also announcing that a workshop entitled “Kickoff Workshop to Inform EPA's Review of the Primary SO2 NAAQS” is being organized by NCEA and the EPA Office of Air and Radiation's Office of Air Quality Planning and Standards (OAQPS). The workshop will be held June 12-13, 2013, in Research Triangle Park, North Carolina. The workshop will be open to attendance by interested public observers on a first-come, first-served basis up to the limits of available space.

Additionally, in the near future, the EPA Scientific Advisory Board (SAB) will be forming a Clean Air Scientific Advisory Committee (CASAC) panel for the SO2 NAAQS health review.

DATES: The workshop will be held on June 12-13, 2013. All communications and information submitted in response to the call for information should be received by EPA by June 10, 2013.

ADDRESSES: The workshop will be held at U.S. EPA, 109 T.W. Alexander Drive, Research Triangle Park, North Carolina. An EPA contractor, ICF International, is providing logistical support for the workshop. Please register by going to https://sites.google.com/site/soxkickoffworkshop/. The pre-registration deadline is May 31, 2013. Please direct questions regarding workshop registration or logistics to Whitney Kihlstrom at EPA_NAAQS_Workshop@icfi.com or by phone at 919-293-1646. For specific questions regarding technical aspects of the workshop see the section of this notice entitled FOR FURTHER INFORMATION CONTACT.

Information in response to the call for information may be submitted electronically, by mail, by facsimile, or by hand delivery/courier. Please follow the detailed instructions as provided in the section of this notice entitled SUPPLEMENTARY INFORMATION.

FOR FURTHER INFORMATION CONTACT: For details on the period for submission of research information from the public, contact the Office of Environmental Information (OEI) Docket; telephone: 202-566-1752; facsimile: 202-566-9744; or email: Docket_ORD@epa.gov. For technical information, contact Tom Long, Ph.D., NCEA; telephone: 919-541-1880; facsimile: 919-541-2985; or email: long.tom@epa.gov or Amy Lamson, Ph.D., OAQPS; telephone: 919-541-4383 or email: lamson.amy@epa.gov.

SUPPLEMENTARY INFORMATION:

I. Information About the Project

Section 108(a) of the Clean Air Act directs the Administrator to issue “air quality criteria” for certain air pollutants. These air quality criteria are to “accurately reflect the latest scientific knowledge useful in indicating the kind and extent of all identifiable effects on public health or welfare, which may be expected from the presence of such pollutant in the ambient air. . . .” Under section 109 of the Act, EPA is then to establish National Ambient Air Quality Standards (NAAQS) for each pollutant for which EPA has issued criteria. Section 109(d) of the Act requires EPA to review periodically, and, if appropriate, to revise existing air quality criteria to reflect advances in scientific knowledge on the effects of the pollutant on public health and welfare. EPA is also to determine whether it is appropriate to revise the NAAQS based on the revised air quality criteria.

Oxides of Sulfur (SOX) are one of six “criteria” pollutants for which EPA has established NAAQS. Periodically, EPA reviews the scientific basis for these standards by preparing an Integrated Science Assessment (ISA). The ISA, along with additional technical and policy assessments conducted by OAQPS, form the scientific and technical bases for EPA decisions on the adequacy of the SO2 NAAQS and the appropriateness of revising that standard.

At the start of a NAAQS review, EPA issues an announcement of the review and notes the initiation of the development of the ISA. At that time, EPA also issues a request that the public submit scientific literature that they want to bring to the attention of the Agency for consideration in the review process. CASAC, an independent scientific advisory committee whose role is mandated by the Clean Air Act, is charged with independent expert scientific review of EPA's draft ISAs. As the process proceeds, the public will have opportunities to review and comment on draft SOX ISAs. These opportunities will also be announced in the Federal Register.

For the review of the primary SO2 NAAQS being initiated by this notice, the Agency is interested in obtaining additional new information, particularly concerning toxicological studies of effects of controlled exposure to SOX on laboratory animals, humans, and in vitro systems as well as epidemiologic (observational) studies of health effects associated with ambient exposures of human populations to SOX. EPA also seeks recent information in other areas of SOX research such as chemistry and physics, sources and emissions, analytical methodology, transport and transformation in the environment, and ambient concentrations. This and other selected literature relevant to a review of the SO2 NAAQS will be assessed in the forthcoming SOX ISA.

As part of this review of the SO2 NAAQS, EPA intends to sponsor a workshop on June 12-13, 2013, in Research Triangle Park, North Carolina to highlight significant new and emerging SOX research, and to make recommendations to the Agency regarding the design and scope of the review for the primary (health-based) SO2 standards to ensure that it addresses key policy-relevant issues and considers the new science that is relevant to informing our understanding of these issues. In addition, other opportunities for submission of new peer-reviewed, published (or in-press) papers will be possible as part of public comment on the draft ISAs that will be reviewed by CASAC. Workshop discussions are intended to build upon three prior publications or events (see http://www.epa.gov/ttn/naaqs/standards/so2/s_so2_index.html to obtain a copy of these and other related documents):

• Primary National Ambient Air Quality Standard for Sulfur Dioxide; Final Rule (40 CFR Parts 50, 53, and 58, June 22, 2010). The preamble to the final rule included detailed discussions of policy-relevant issues central to the last review.

• Integrated Science Assessment for Sulfur Oxides—Health Criteria (EPA 600/R-08/047F, September 2008).

• Risk and Exposure Assessment to Support the Review of the SO2 Primary National Ambient Air Quality Standard (EPA 452/R-09/007, July 2009).

Based in large part on the input received during this workshop, EPA will develop a draft integrated review plan for the SOX review that will outline the schedule, process, and approaches for evaluating the relevant scientific information and addressing the key policy-relevant issues to be considered in this review. CASAC will be asked to conduct a consultation with the Agency on the draft integrated review plan, and the public will have the opportunity to comment on it as well. The final integrated review plan will be used to frame each of the major elements of the SOX review under the NAAQS review process: An integrated science assessment, a risk/exposure assessment, and a policy assessment.

II. How To Submit Technical Comments to the Docket

Submit your comments, identified by Docket ID No. EPA-HQ-ORD-2013-0357 by one of the following methods:

• www.regulations.gov: Follow the on-line instructions for submitting comments.

• Email: Docket_ORD@epa.gov.

• Fax: 202-566-9744.

• Mail: Office of Environmental Information (OEI) Docket (Mail Code: 28221T), U.S. Environmental Protection Agency, 1200 Pennsylvania Avenue NW., Washington, DC 20460. The phone number is 202-566-1752.

• Hand Delivery: The OEI Docket is located in the EPA Headquarters Docket Center, EPA West Building, Room 3334, 1301 Constitution Avenue NW., Washington, DC. The EPA Docket Center Public Reading Room is open from 8:30 a.m. to 4:30 p.m., Monday through Friday, excluding Federal holidays. The telephone number for the Public Reading Room is 202-566-1744. Such deliveries are only accepted during the docket's normal hours of operation, and special arrangements should be made for deliveries of boxed information. If you provide comments by mail or hand delivery, please submit three copies of the comments. For attachments, provide an index, number pages consecutively with the comments, and submit an unbound original and three copies.

Instructions: Direct your comments to Docket ID No. EPA-HQ-ORD-2013-0357. Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the OEI Docket in the EPA Headquarters Docket Center.

Dated: May 2, 2013.
Debra B. Walsh,
Acting Director, National Center for Environmental Assessment.

[FR Doc. 2013-11197 Filed 5-9-13; 8:45 am]

BILLING CODE 6560-50-P